ENVIRONMENTAL PROTECTION AGENCY

[FRL-8338-2]

Extension of Public Notice Comment Period for the Re-proposal of the Reissuance of Two General NPDES Permits (GPs), One for Aquaculture Facilities in Idaho Subject to Wasteload Allocations Under Selected Total Maximum Daily Loads (Permit Number IDG-13-0000) and One for Fish Processors Associated With Aquaculture Facilities in Idaho (Permit Number IDG-13-2000)

AGENCY: Environmental Protection Agency.

ACTION: Extension of Public Comment Period on two draft general NPDES permits for Idaho aquaculture facilities and associated fish processors.

SUMMARY: On June 7, 2007, EPA Region 10 re-proposed to reissue two general permits to cover aquaculture facilities and associated fish processors in Idaho (72 FR 31574). In response to a request from the regulated community, EPA is extending the end of public comment period from July 9, 2007, to July 23, 2007.

DATES: The end of the public comment period in now extended to July 23, 2007. Comments must be received or postmarked by that date.

Public Comment: Interested persons may submit written comments on the draft permits to the attention of Sharon Wilson at the address below. All comments should include the name, address, e-mail address (if applicable), and telephone number of commenter and a concise statement of comment and the relevant facts upon which it is based. Comments of either support or concern, which are directed at specific, cited permit requirements, are appreciated. After the expiration date of the public notice on July 23, 2007, the Director of the EPA Region 10 Office of Water and Watersheds will make a final determination with respect to issuance of the general permits. Response to comments from both the 2006 and 2007 public comment periods will be published with the final permits. The requirements proposed in the draft general permits or modified as a result of comments will become final at least 30 days after publication of the final permits in the Federal Register.

ADDRESSES: Comments on the proposed general permits should be sent to Sharon Wilson, USEPA Region 10, 1200 6th Avenue, OWW-130, Seattle, Washington 98101 or by e-mail to wilson.sharon@epa.gov.

FOR FURTHER INFORMATION, CONTACT: Carla Fromm at 208-378-5755 or fromm.carla@epa.gov or Sharon Wilson at 206-553-0325 or wilson.sharon@epa.gov. The supplemental fact sheet for this public comment period, as well as the draft permits and fact sheet for the 2006 public comment period, may be found on the Region 10 Web site at: http://yosemite.epa.gov/R10/WATER.NSF/NPDES+Permits/General+NPDES+Permits#Aquaculture. They are also available upon request from Audrey Washington at (206) 553-0523 or at washington.audrey@epa.gov. For information on physical locations in Idaho and Seattle where the documents may be viewed, see the June 7, 2007, notice at 71 FR 31574.

Dated: July 2, 2007.
Michael F. Gearheard,
Director, Office of Water and Watersheds, U.S. Environmental Protection Agency.

[FR Doc. E7-13343 Filed 7-9-07; 8:45 am]

BILLING CODE 6560-50-P